DEPARTMENT OF TRANSPORTATION

Federal Aviation Administration

14 CFR Part 39

[Docket No. FAA-2004-19176; Directorate Identifier 2003-NM-36-AD]

RIN 2120-AA64

Airworthiness Directives; Empresa Brasileira de Aeronautica S.A. (EMBRAER) Model EMB-135 and -145 Series Airplanes

AGENCY: Federal Aviation Administration (FAA), DOT.

ACTION: Notice of proposed rulemaking (NPRM).

SUMMARY: The FAA proposes to supersede an existing airworthiness directive (AD) for all EMBRAER Model EMB-135 and -145 series airplanes. That AD currently requires repetitive inspections of the electrical connectors of the electric fuel pumps to detect discrepancies, and follow-on corrective actions. This proposed AD would extend the repetitive intervals for the inspections; add new criteria for replacing discrepant fuel pumps; add a new requirement for applying anti-corrosion spray; add a requirement to replace all fuel pumps with improved fuel pumps; and add repetitive inspections after all six fuel pumps are replaced. This proposed AD is prompted by the manufacturer's development of a new modification that addresses the unsafe condition in the existing AD. We are proposing this AD to prevent an ignition source in the fuel tank or adjacent dry bay, which could result in fire or explosion.

DATES: We must receive comments on this proposed AD by October 28, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW, Nassif Building, room PL-401, Washington, DC 20590.

• Fax: (202) 493-2251.

• Hand Delivery: Room PL-401 on the plaza level of the Nassif Building, 400 Seventh Street SW, Washington, DC, between 9 a.m. and 5 p.m., Monday through Friday, except Federal holidays.

You can get the service information identified in this proposed AD from Empresa Brasileira de Aeronautica S.A. (EMBRAER), P.O. Box 343—CEP 12.225, Sao Jose dos Campos—SP, Brazil.

You may examine the contents of this AD docket on the Internet at http://dms.dot.gov, or at the Docket Management Facility, U.S. Department of Transportation, 400 Seventh Street SW, room PL-401, on the plaza level of the Nassif Building, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19176; Directorate Identifier 2003-NM-36-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The FAA has examined the underlying safety issues involved in recent fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with another latent condition(s), and in-service failure experience. For all four criteria, the evaluations included consideration of previous actions taken that may mitigate the need for further action.

Based on this process, we have determined that the actions identified in this AD are necessary to reduce the potential of ignition sources inside fuel tanks, which, in combination with flammable fuel vapors, could result in fuel tank explosions and consequent loss of the airplane.

On September 8, 2000, we issued AD 2000-19-02, amendment 39-11903 (65 FR 56233, September 18, 2000), for all EMBRAER Model EMB-135 and -145 series airplanes. That AD requires repetitive inspections of the electrical connectors of the electric fuel pumps to detect discrepancies, and follow-on corrective actions. That AD was prompted by a report of damage to the pins and elastomeric inserts in the hermetically sealed wire connectors of the electric fuel pumps located in the main wing fuel tanks. We issued that AD to prevent failure of the electrical connectors or electrical arcing across the connector pins of the pump, and consequent fuel fire or explosion.

Actions Since Existing AD Was Issued

The preamble to AD 2000-19-02 stated that we considered the requirements “interim action” and that the manufacturer was developing a modification to address the unsafe condition. That AD explained that we may consider further rulemaking if a modification is developed, approved, and available. The manufacturer now has developed a modification, and we have determined that further rulemaking is indeed necessary; this proposed AD follows from that determination.

Relevant Service Information

EMBRAER has issued Service Bulletin 145-28-0013, dated April 25, 2001. This service bulletin supersedes EMBRAER Service Bulletin 145-28-A013, dated August 16, 2000, which was cited in AD 2000-19-02 as the appropriate source of service information for accomplishing the actions required by that AD.

EMBRAER Service Bulletin 145-28-0013 describes procedures for:

• Repetitive inspections of the electrical connectors of the fuel pumps to detect discrepancies such as corrosion, surface irregularities, damaged plating, blackened pins, damaged elastomeric inserts, cracks, erosion, or charring of the connector.

• Applying anti-corrosion spray on the male contacts of the fuel pump electrical connectors if no discrepancy is found.

• Replacing the fuel pumps with new, improved fuel pumps (with gold-plated connectors), and a follow-on inspection of the mating aircraft connectors, if any discrepancy is found.

• Replacing only the socket contacts with new contacts having the same part number if no damage is found to the mating aircraft connectors; or replacing the affected connector with a new connector having the same part number if any damage is found to the mating aircraft connectors; and applying anti-corrosion spray on the male contacts of the electrical connectors for the new, improved fuel pumps.

The Departmento de Aviacao Civil (DAC) mandated the service bulletin and issued Brazilian airworthiness directive 2000-08-01R2, dated February 13, 2002, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that AD action is necessary for airplanes of this type design that are certificated for operation in the United States.

Therefore, we are proposing this AD, which would supersede AD 2000-19-02 to continue to require repetitive inspections of the electrical connectors of the electric fuel pumps to detect discrepancies, and follow-on corrective actions. This proposed AD would also extend the repetitive intervals for the inspections; add new criteria for replacing discrepant fuel pumps, add a new requirement for applying anti-corrosion spray; add a requirement to replace all fuel pumps with improved fuel pumps; and add repetitive inspections after all six pumps are replaced. The proposed AD would require you to use the service information described previously to perform these actions, except as discussed under “Differences Among the Proposed AD, the Service Bulletin, and the Brazilian Airworthiness Directive.”

Differences Among the Proposed AD, the Service Bulletin, and the Brazilian Airworthiness Directive

The service bulletin states that you may replace the fuel pumps with electric fuel pumps that have part number (P/N) 2C7-1, but this proposed AD would require you to replace them with fuel pumps that have P/N 2C7-4.

The Brazilian airworthiness directive does not give a time for replacing all six fuel pumps, but this proposed AD would require you to replace all six fuel pumps with new, improved pumps within 8,000 flight hours after the effective date of the proposed AD.

We have coordinated these differences with the DAC.

Changes to Existing AD

This proposed AD would retain all requirements of AD 2000-19-02. Since AD 2000-19-02 was issued, the AD format has been revised, and certain paragraphs have been rearranged. As a result, the corresponding paragraph identifiers have changed in this proposed AD, as listed in the following table:

Revised Paragraph Identifiers
Requirement in AD 2000-19-02 | Corresponding requirement in this proposed AD
Paragraph (a) | Paragraph (f).
Paragraph (b) | Paragraph (n).
Paragraph (c) | Paragraph (g).
Paragraph (d) | Paragraph (h).

We have also included a definition of “general visual inspection,” which was not included in the existing AD. This definition is in Note 1 of the proposed AD.

Costs of Compliance

The following table provides the estimated costs for U.S. operators to comply with this proposed AD.

Estimated Costs
Action | Work hours | Average labor rate per hour | Parts | Cost per airplane | Number of U.S.- registered airplanes | Fleet cost
Inspections (required by AD 2000-19-02) | 1 per inspection cycle | $65 | None | $65 per inspection | 290 | $18,850 per inspection cycle.
Repetitive inspections (new proposed action) | 1 per inspection cycle | 65 | None | $65 per inspection cycle | 290 | $18,850 per inspection cycle.
Replacing the fuel pump (new proposed action) | 1 per pump (6 per airplane) | 65 | Free | $390 | 290 | $113,100.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11903 (65 FR 56233, September 18, 2000) and adding the following new airworthiness directive (AD):

Empresa Brasileira de Aeronautica S.A. (EMBRAER): Docket No. FAA-2004-19176; Directorate Identifier 2003-NM-36-AD.

Comments Due Date

(a) The Federal Aviation Administration must receive comments on this AD action by October 28, 2004.

Affected ADs

(b) This AD supersedes AD 2000-19-02, amendment 39-11903.

Applicability

(c) This AD applies to all EMBRAER Model EMB-135 and -145 series airplanes, certificated in any category.

Unsafe Condition

(d) This AD was prompted by the manufacturer's development of a new modification that addresses the unsafe condition in the AD 2000-19-02. We are issuing this AD to prevent an ignition source in the fuel tank or adjacent dry bay, which could result in fire or explosion.

Compliance

(e) You are responsible for having the actions required by this AD performed within the compliance times specified, unless the actions have already been done.

Restatement of the Requirements of AD 2000-19-02

Repetitive Inspections

(f) Perform a general visual inspection of the electrical connectors of the fuel pumps in the right- and left-hand wings to detect discrepancies (including blackened connector pins, damage to electrometric insert, cracks, erosion, or charring), in accordance with EMBRAER Alert Service Bulletin S.B. 145-28-A013, dated August 16, 2000, at the times specified in paragraphs (f)(1), (f)(2), and (f)(3) of this AD, as applicable. Repeat the inspection thereafter at intervals not to exceed 400 flight hours until the inspection required by paragraph (i) of this AD is done.

(1) For airplanes having 1,200 total flight hours or less as of October 3, 2000 (the effective date of AD 2000-19-02, amendment 39-11903): Prior to the accumulation of 1,600 total flight hours.

(2) For airplanes having more than 1,200 total flight hours, but less than 4,000 total flight hours, as of October 3, 2000: Within 400 flight hours after October 3, 2000.

(3) For airplanes having 4,000 total flight hours or more as of October 3, 2000: Prior to the accumulation of 4,400 total flight hours, or within 50 flight hours after October 3, 2000, whichever occurs later.

Note 1: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Follow-On Corrective Actions

(g) If any discrepancy (including blackened connector pins, damage to electrometric insert, cracks, erosion, or charring) is detected after accomplishment of any inspection required by paragraph (f) of this AD: Before further flight, replace the fuel pump and its mating airplane connector in accordance with EMBRAER Alert Service Bulletin S.B. 145-28-A013, dated August 16, 2000.

(h) After accomplishment of the replacement required by paragraph (g) of this AD, before further flight: Perform a general visual inspection of the electrical connectors adjacent to the fuel pump to detect damage (visible cracks, erosion, or charring), in accordance with EMBRAER Alert Service Bulletin S.B. 145-28-A013, dated August 16, 2000, and accomplish the requirements in paragraph (h)(1) or (h)(2) of this AD, as applicable.

(1) If any damage is detected, before further flight, replace the connectors with new ones in accordance with the alert service bulletin.

(2) If no damage is detected, before further flight, replace only the socket contacts with new contacts in accordance with the alert service bulletin.

New Requirements of This AD

Inspections

(i) Do a general visual inspection of the electrical connectors of the fuel pumps in the right- and left-hand wings to detect discrepancies (including any corrosion, surface irregularities, damaged plating, blackened pins, damaged elastomeric inserts, cracks, erosion, or charring of the connector). Do the first inspection at the applicable time in paragraph (i)(1) or (i)(2) of this AD, in accordance with Part I of the Accomplishment Instructions of EMBRAER Service Bulletin 145-28-0013, dated April 25, 2001. Repeat the inspection thereafter at intervals not to exceed 1,200 flight hours until all six fuel pumps are replaced in accordance with paragraph (k) or (l) of this AD. When all six fuel pumps have been replaced in accordance with paragraph (k) or (l) of this AD, repeat the inspection thereafter at intervals not to exceed 8,000 flight hours. Doing the inspection required by this paragraph terminates the repetitive inspections required by paragraph (f) of this AD.

(1) For airplanes that have been inspected in accordance with paragraph (f) of this AD as of the effective date of this AD: Within 1,200 flight hours since the most recent inspection done in accordance with paragraph (f) of this AD.

(2) For airplanes that have not been inspected in accordance with paragraph (f) of this AD as of the effective date of this AD: Within 1,200 flight hours after the effective date of this AD.

Corrective Action if No Discrepancy Is Found

(j) If there is no evidence of a discrepancy found during any inspection required by paragraph (i) of this AD: Before further flight, apply anti-corrosion spray on the male contacts of the fuel pump electrical connectors in accordance with the Accomplishment Instructions of EMBRAER Service Bulletin 145-28-0013, dated April 25, 2001.

Replacement if Any Discrepancy Is Found

(k) If any evidence of a discrepancy is found during any inspection required by paragraph (i) of this AD: Before further flight, replace the electric fuel pump with a new electric fuel pump that has part number (P/N) 2C7-4, in accordance with the Accomplishment Instructions of EMBRAER Service Bulletin 145-28-0013, dated April 25, 2001. After the replacement, repeat the inspection required by paragraph (i) of this AD at the applicable interval in that paragraph.

Replacement

(l) Within 8,000 flight hours after the effective date of this AD, replace any electric fuel pump that has not been replaced in accordance with paragraph (k) of this AD with a new electric fuel pump that has part number (P/N) 2C7-4, in accordance with the Accomplishment Instructions of EMBRAER Service Bulletin 145-28-0013, dated April 25, 2001. After the replacement, repeat the inspection required by paragraph (i) of this AD at intervals not to exceed 8,000 flight hours.

Inspection and Corrective Actions

(m) Before further flight after replacing a fuel pump, as required by paragraph (k) and (l) of this AD: Do a general visual inspection for damage of the mating aircraft connectors; and do the applicable corrective action in paragraph (m)(1) or (m)(2) of this AD; in accordance with the Accomplishment Instructions of EMBRAER Service Bulletin 145-28-0013, dated April 25, 2001.

(1) If there is any sign of damage to the mating aircraft connectors: Replace the affected connector with a new connector, and apply anti-corrosion spray on the male contacts of the fuel pump electric connectors.

(2) If there is no sign of damage to the mating aircraft connectors: Replace only the socket contacts with new socket contacts, and apply anti-corrosion spray on the male contacts of the fuel pump electric connectors.

Master Minimum Equipment List (MMEL)

(n) The inspections required by paragraphs (f) and (i) of this AD apply to the six electric fuel pumps in the right- and left-hand wings (three pumps in each wing). For pump replacement planning purposes, the airplane may be operated in accordance with the provisions and limitations specified in an operator's FAA-approved MMEL, provided that no more than one fuel pump on each wing on the airplane is inoperative.

Note 2: When operating under the MMEL, operators must comply with the unusable fuel quantity as referenced in the Limitations Section of the appropriate FAA-approved Airplane Flight Manual (AFM).

Parts Installation

(o) As of the effective date of this AD, no person may install a fuel pump, P/N 2C7-1, on any airplane.

Alternative Methods of Compliance (AMOCs)

(p)(1) The Manager, International Branch, ANM-116, Transport Airplane Directorate, FAA, has the authority to approve AMOCs for this AD, if requested using the procedures found in 14 CFR 39.19.

(2) Alternative methods of compliance, approved previously per AD 2000-19-02, amendment 39-11903, are not approved as alternative methods of compliance with this AD.

Related Information

(q) Brazilian airworthiness directive 2000-08-01R2, dated February 13, 2002, also addresses the subject of this AD.

Issued in Renton, Washington, on September 20, 2004.
Kalene C. Yanamura,
Acting Manager, Transport Airplane Directorate, Aircraft Certification Service.

[FR Doc. 04-21644 Filed 9-27-04; 8:45 am]

BILLING CODE 4910-13-P